DEPARTMENT OF HOMELAND SECURITY

[DHS2005-0024]

Office of Inspector General; Privacy Act of 1974; Systems of Records

AGENCY: Office of Information Technology and Office of Audits, Office of Inspector General, Department of Homeland Security.

ACTION: Notice of Privacy Act systems of records.

SUMMARY: In accordance with the Privacy Act of 1974, the Department of Homeland Security Office of Inspector General is giving notice that it proposes to establish a new system of records titled, “Audit Training Tracking System.”

DATES: Comments must be received on or before May 18, 2005.

ADDRESSES: You may submit comments, identified by Docket Number DHS-OIG-2005-0024, by one of the following methods:

• EPA Federal Partner EDOCKET Web site: http://www.epa.gov/feddocket. Follow instructions for submitting comments on the Web site. DHS has joined the Environmental Protection Agency (EPA) online public docket and comment system on its Partner Electronic Docket System (Partner EDOCKET).

• Federal eRulemaking Portal: http://www.regulations.gov. Follow the instructions for submitting comments.

• Fax: (202) 254-4285 (This is not a toll-free number).

• Mail: Richard N. Reback, DHS, Office of Inspector General/STOP 2600, 245 Murray Drive, SW., Building 410, Washington, DC 20528.

• Hand Delivery / Courier: Richard N. Reback, DHS, Office of Inspector General/STOP 2600, 245 Murray Drive, S.W., Building 410, Washington, D.C. 20528.

Instructions: All submissions received must include the agency name and docket number for this notice. All comments received will be posted without change to http://www.epa.gov/feddocket, including any personal information provided.

Docket: For access to the docket to read background documents or comments received, go to http://www.epa.gov/feddocket. You may also access the Federal eRulemaking Portal at http://www.regulations.gov.

FOR FURTHER INFORMATION CONTACT: Richard N. Reback, Department of Homeland Security, Office of Inspector General/STOP 2600, 245 Murray Drive, SW., Building 410, Washington, DC 20528 by telephone (202) 254-4100 or facsimile (202) 254-4285; Nuala O'Connor Kelly, Chief Privacy Officer, Department of Homeland Security, 245 Murray Drive, SW., Building 410, Washington, DC 20528 by telephone (202) 772-9848 or facsimile (202) 772-5036.

SUPPLEMENTARY INFORMATION: The Department of Homeland Security (DHS), Office of Inspector General (OIG) is establishing a new system of records within OIG Headquarters under the Privacy Act of 1974 (5 U.S.C. 552a).

The Privacy Act embodies fair information principles in a statutory framework governing the means by which the United States Government collects, maintains, uses and disseminates personally identifiable information. The Privacy Act applies to information that is maintained in a “system of records.” A “system of records” is a group of any records under the control of an agency from which information is retrieved by the name of the individual or by some identifying number, symbol, or other identifying particular assigned to the individual. Individuals may request their own records that are maintained in a system of records in the possession or under the control of DHS-OIG by complying with DHS Privacy Act regulations, 6 CFR part 5.

The Privacy Act requires each agency to publish in the Federal Register a description denoting the type and character of each system of records that the agency maintains, and the routine uses that are contained in each system in order to make agency recordkeeping practices transparent, to notify individuals regarding the uses to which personally identifiable information is put, and to assist the individual to more easily find such files within the Agency.

OIG is therefore publishing this system of records to cover training records relating to OIG auditors' continuing professional education. The system is maintained for the purpose of tracking training completed by OIG auditors to ensure that OIG has met the requirements for continuing professional education under the Government Accountability Office, Government Auditing Standards, section 3.45, at 55 (2003)(GAO-03-673G; the “Yellow Book”). The Yellow Book standards require auditors performing work under generally accepted government auditing standards (GAGAS) to maintain their professional competence through continuing professional education (CPE). The system of records being published today will allow OIG to track training information and ensure these standards are met.

In accordance with 5 U.S.C. 552a(r), OIG has provided a report of this new system of records to the Office of Management and Budget (OMB) and to the Congress.

DHS-OIG-001

System name:

Department of Homeland Security (DHS) Office of Inspector General (OIG) Audit Training Tracking System

Security classification:

Unclassified.

System location:

This system of records is located in the OIG Office of Audits and Office of Information Technology, 1120 Vermont Avenue, NW., Washington, DC 20528.

Categories of individuals covered by the system:

OIG auditors who are required to complete and track continuing education courses.

Categories of records in the system:

Records received, created, and compiled that document training requested and received by OIG auditors for purposes of continuing professional education. Types of information in the records include training registration and verification forms; course syllabi and materials; Standard Forms 182 (Request, Authorization, and Certification of Training); auditors' names and Social Security Numbers; auditors' office addresses and telephone numbers; hours of training completed; and names of training courses completed along with dates, cost (including travel costs), hours, and location of training.

Authority for maintenance of the system:

5 U.S.C. 301; 5 U.S.C. App. 3, section 4(b); Government Auditing Standards at section 3.45 (2003 Revision), GAO-03-673G, June 2003.

Purpose(s):

The system is maintained for the purpose of tracking training completed by OIG auditors to ensure that OIG has met the requirements for continuing professional education under the Government Accountability Office, Government Auditing Standards, section 3.45, at 55 (2003)(GAO-03-673G; the “Yellow Book”). OIG will use this system of records to track training and ensure that the Yellow Book standards are met.

Routine uses of these records:

In addition to those disclosures generally permitted under 5 U.S.C. 552a(b) of the Privacy Act, all or a portion of the records or information contained in this system may be disclosed outside DHS as a routine use pursuant to 5 U.S.C. 552a(b)(3) as follows:

(1) To contractors, grantees, experts, consultants, students, and others performing or working on a contract, service, grant, cooperative agreement, or other assignment for the Federal Government, when necessary to accomplish an agency function related to this system of records.

(2) To a Federal, State, territorial, tribal, local, international, or foreign agency or entity for the purpose of consulting with that agency or entity (a) to assist in making a determination regarding access to or amendment of information, or (b) for the purpose of verifying the identity of an individual or the accuracy of information submitted by an individual who has requested access to or amendment of information.

(3) To the Department of Justice (DOJ) or other Federal agency conducting litigation or in proceedings before any court, adjudicative or administrative body, when: (a) DHS, or (b) any employee of DHS in his/her official capacity, or (c) any employee of DHS in his/her individual capacity where DOJ or DHS has agreed to represent the employee, or (d) the United States or any agency thereof, is a party to the litigation or has an interest in such litigation.

(4) To a congressional office from the record of an individual in response to an inquiry from that congressional office made at the request of the individual to whom the record pertains.

(5) To the National Archives and Records Administration or other Federal Government agencies pursuant to records management inspections being conducted under the authority of 44 U.S.C. 2904 and 2906.

(6) To a Federal, State, or local government entity or professional licensing authority for purposes of responding to an official inquiry relating to professional licensing or certification requirements. Referral of information to State boards of accountancy will be made only after the auditor has been notified that the OIG is contemplating disclosing the information to an appropriate State board of accountancy, and the auditor has been provided with an opportunity to respond in writing to the OIG's findings.

(7) To appropriate persons engaged in conducting and reviewing internal and external peer reviews of the OIG to ensure adequate internal safeguards and management procedures exist or to ensure auditing standards applicable to Government audits are applied and followed.

(8) To the President's Council on Integrity and Efficiency (PCIE) and other Federal agencies, as necessary, if the records respond to an audit, investigation or review which is conducted pursuant to an authorizing law, rule or regulation, and in particular those conducted at the request of the PCIE pursuant to Executive Order No. 12993.

(9) To educational institutions for purposes of enrollment and verification of employee attendance and performance.

(10) To an appropriate Federal, State, territorial, tribal, local, international, or foreign agency law enforcement agency or other appropriate authority charged with investigating or prosecuting such a violation or enforcing or implementing such law, where a record, either on its face or in conjunction with other information, indicates a violation or potential violation of law (i.e. criminal, civil, administrative, or regulatory).

Disclosure to consumer reporting agencies:

None.

Policies and practices for storing, retrieving, accessing, retaining, and disposing of records in the system:

Storage:

Records in this system are stored on paper media and in digital or other electronic form in a secure Local Area Network (LAN)-server and/or Wide Area Network (WAN) environment.

Retrievability:

Records are retrieved by an identification number assigned by computer, by the name of the OIG auditor, by course, and by audit division.

Safeguards:

Information in this system is safeguarded in accordance with applicable laws, rules and policies, including the DHS Information Technology Security Program Handbook. All records are protected from unauthorized access through appropriate administrative, physical, and technical safeguards. These safeguards include restricting access to authorized personnel who have a need-to-know, and using locks and password protection identification features. OIG file areas are locked after normal duty hours and facilities are protected from the outside by security personnel.

Retention and disposal:

Records are retained and disposed of in accordance with the National Archives and Records Administration General Records Schedule 1, Item 29, Transmittal No. 12 (July 2004). Files may be retained for up to five years. For requests that result in litigation, the files related to that litigation will be retained for three years after final court adjudication.

System manager(s) and addresses:

The System Managers are System Manager/OIG Office of Technology and System Manager/OIG Office of Audits, 1120 Vermont Avenue, NW., Washington, DC 20528.

Notification procedures:

To determine whether this system contains records relating to you, write to the System Manager identified above.

Record access procedures:

A request for access to records in this system may be made by writing to the System Manager identified above, in conformance with 6 CFR part 5, subpart B, which provides the rules for requesting access to Privacy Act records maintained by DHS agencies.

Contesting record procedures:

Same as “Record Access Procedures,” above.

Record source categories:

Information contained in this system is obtained from OIG auditors and government and non-government entities conducting continuing professional education courses and conferences.

Exemptions claimed for the system:

None.

Dated: April 7, 2005.
Nuala O'Connor Kelly,
Chief Privacy Officer, Department of Homeland Security.

[FR Doc. 05-7703 Filed 4-15-05; 8:45 am]

BILLING CODE 4410-10-P